GENERAL SERVICES ADMINISTRATION

Temporary Duty and Relocation Travel of Employees to Areas Impacted by the Wildfires in California

AGENCY: Office of Governmentwide Policy, General Services Administration (GSA).

ACTION: Notice of Federal Travel Regulation (FTR) Bulletin 08-02.

SUMMARY: The General Services Administration (GSA) has issued FTR Bulletin 08-02. FTR Bulletin 08-02 informs agencies that certain provisions of the FTR governing the authorization of actual subsistence expenses for official travel (both TDY and relocation) are temporarily waived as a result of the Emergency Declaration signed by the President on October 23, 2007, in response to wildfires in parts of California. It is expected that finding lodging facilities and/or adequate meals in the affected areas may be difficult, and distances involved may be great resulting in increased costs for per diem expenses. FTR Bulletin 08-02 became effective on October 24, 2007 and will remain effective until January 24, 2008, unless extended or rescinded by GSA. This bulletin and all FTR bulletins are located at gsa.gov/bulletin.

FOR FURTHER INFORMATION CONTACT: For clarification of content, contact Patrick McConnell, Office of Governmentwide Policy, General Services Administration, Washington, DC 20405, telephone (202) 501-2362, or by email at patrick.mcconnell@gsa.gov.

Dated: October 25, 2007.
Russ Pentz,
Assistant Deputy Associate Administrator.

[FR Doc. E7-21393 Filed 10-30-07; 8:45 am]

BILLING CODE 6820-14-S